DEPARTMENT OF LABOR

Employment and Training Administration

[TA-W-71,714]

Arkansas Lamp Manufacturing, Including On-Site Leased Workers From TEC, Van Buren, AR; Notice of Termination of Investigation

Pursuant to Section 223 of the Trade Act of 1974, as amended, an investigation was initiated in response to a petition filed on July 17, 2009, by a company official on behalf of workers of Arkansas Lamp Manufacturing, Van Buren, Arkansas. The worker group includes on-site leased workers from TEC.

The petitioner has requested that the petition be withdrawn. Consequently, the investigation has been terminated.

Signed at Washington, DC, this 4th day of January 2010.
Del Min Amy Chen,
Certifying Officer, Division of Trade Adjustment Assistance.

[FR Doc. 2010-5340 Filed 3-11-10; 8:45 am]

BILLING CODE 4510-FN-P